DEPARTMENT OF HOMELAND SECURITY

Federal Emergency Management Agency

[Docket ID FEMA-2012-0026]

Public Meeting To Discuss Revision of “Criteria for Preparation and Evaluation of Radiological Emergency Response Plans and Preparedness in Support of Nuclear Power Plants” (NUREG-0654/FEMA-REP-1, Rev. 1)

AGENCY: Federal Emergency Management Agency, DHS.

ACTION: Notice of public meetings.

SUMMARY: The Federal Emergency Management Agency (FEMA) and the U.S. Nuclear Regulatory Commission (NRC) will hold two public meetings to solicit input from stakeholders and interested members of the public on the scope of a proposed revision of “Criteria for Preparation and Evaluation of Radiological Emergency Response Plans and Preparedness in Support of Nuclear Power Plants,” NUREG-0654/FEMA-REP-1, Rev. 1.

DATES: The first meeting will be held on Wednesday, August 22, 2012 from 1 p.m. to 5 p.m. (CST) in Kansas City, Missouri. The second meeting will be held on Thursday, September 13, 2012 from 1 p.m. to 5 p.m. (EST) in Rockville, MD. Please note that meetings may close early if all business is finished.

ADDRESSES: The first meeting on August 22, 2012 will be held at USDA Center, 6501 Beacon Drive, Kansas City, Missouri 64133; the second meeting on September 13, 2012 will be held at NRC Headquarters, 11555 Rockville Pike, Rockville, MD 20852.

Tele- and Web conferencing: Interested members of the public unable to attend the meeting may participate by telephone via a toll-free teleconference or remotely on the internet by web conference. To participate in the meeting by teleconference or web conference, please call or email the contact person listed below in the FOR FURTHER INFORMATION CONTACT section as soon as possible, but no later than three (3) business days before each meeting date.

Comments: To facilitate public participation, we are inviting public comment on the issues to be considered at the public meeting as listed in the SUPPLEMENTARY INFORMATION section. To make oral statements at the public meeting, please send a request to the contact person listed under the FOR FURTHER INFORMATION CONTACT section by close of business August 17, 2012 for the first meeting and by September 7, 2012 for the second meeting. Written comments must be submitted no later than August 17, 2012 for the Kansas City, MO meeting and September 7, 2012 for the Rockville, MD meeting and must be identified by Docket ID FEMA-2012-0026. Comments may be submitted by one of the following methods:

Federal eRulemaking Portal: http://www.regulations.gov. Follow the instructions for submitting comments.

Mail/Hand Delivery/Courier: FEMA, Regulatory Affairs Division, Office of Chief Counsel, 500 C Street, SW., Room 840, Washington, DC 20472-3100.

Instructions: All submissions received must include the agency name and docket ID. Regardless of the method used for submitting comments or material, all submissions will be posted, without change, to the Federal e-Rulemaking Portal at http://www.regulations.gov, and will include any personal information you provide. Therefore, submitting this information makes it public. Please be aware that anyone is able to search the electronic form of all comments received into any of our dockets by the name of the individual who submitted the comment (or signed the comment, if submitted on behalf of an association, business, labor union, etc.). You may want to review the Federal Docket Management System of records notice published in the Federal Register on March 24, 2005 (70 FR 15086).

Do not submit comments that include trade secrets, confidential commercial or financial information to the public regulatory docket. Comments containing this type of information should be appropriately marked as containing such information and submitted by mail to the address specified in the ADDRESSES section of this notice. If FEMA receives a request to examine or copy this information, FEMA will treat it as any other request under the Freedom of Information Act (FOIA), 5 U.S.C. 552, and the Department of Homeland Security (DHS)'s FOIA regulation found in 6 Code of Federal Regulations (CFR) Part 5 and FEMA's regulations found in 44 CFR part 5.

Docket: For access to the docket to read background documents or comments received, go to the Federal eRulemaking Portal at http://www.regulations.gov, click on “Advanced Search,” then enter “FEMA-2012-0026” in the “By Docket ID” box, then select “FEMA” under “By Agency,” and then click “Search.” Submitted comments may also be inspected at FEMA, Office of Chief Counsel, Room 835, 500 C Street SW., Washington, DC 20472.

FOR FURTHER INFORMATION CONTACT: Lou DeGilio, Emergency Management Specialist, Radiological Emergency Preparedness Branch, Technological Hazards Division, National Preparedness Directorate, Federal Emergency Management Agency; Email: lou.degilio@dhs.gov; Phone Number: 202-212-2313.

SUPPLEMENTARY INFORMATION: The two meetings will be conducted jointly by the NRC and FEMA, to solicit input from stakeholders and interested members of the public on the scope of a proposed revision to “Criteria for Preparation and Evaluation of Radiological Emergency Response Plans and Preparedness in Support of Nuclear Power Plants,” NUREG-0654/FEMA-REP-1, Rev. 1. The document is available online at http://www.regulations.gov (Docket ID FEMA-2012-0026).

NUREG-0654/FEMA-REP-1, Rev.1 is a joint NRC/FEMA policy document that provides guidance on the sixteen Planning Standards referenced in FEMA's regulations at 44 CFR 350.5, and the NRC's regulations at 10 CFR part 50. Both agencies use these Planning Standards, and associated Evaluation Criteria, to evaluate the adequacy of emergency preparedness plans of commercial nuclear power plant owners and operators, and the State, local, and Tribal jurisdictions in which commercial nuclear power plants are sited.

Since the publication of NUREG-0654/FEMA-REP-1, Rev.1 in November 1980, four supplementary documents and one addendum have been issued that update and modify specific planning and procedural elements. These documents are available online at http://www.regulations.gov (Docket ID FEMA-2012-0026). Considering stakeholder interest and the various emergency planning and preparedness lessons learned since its initial publication, FEMA and the NRC are considering revising NUREG-0654/FEMA-REP-1, Rev.1.

The purpose of these public meetings is to: (1) Solicit input from stakeholders and interested members of the public on the scope of future revisions to NUREG-0654/FEMA-REP-1, Rev.1; (2) describe the proposed timeline for the revisions to NUREG-0654/FEMA-REP-1, Rev.1; and (3) promote transparency, public participation, and collaboration during the NUREG-0654/FEMA-REP-1, Rev.1 revision process. To make oral statements at the public meeting, please send a request to the contact person listed under the FOR FURTHER INFORMATION CONTACT section by close of business August 17, 2012 for the first meeting and by September 7, 2012 for the second meeting.

Information on Services for Individuals With Disabilities

FEMA provides reasonable accommodations to individuals with disabilities where appropriate. If you need a reasonable accommodation to participate in this meeting (e.g., sign language), or need this meeting notice or other information from the meeting in another format, please notify the person listed above in the FOR FURTHER INFORMATION CONTACT section as soon as possible before each meeting date, so that arrangements can be made.

Dated: July 30, 2012.
Timothy W. Manning,
Deputy Administrator, Protection and National Preparedness, Federal Emergency Management Agency,Department of Homeland Security.

[FR Doc. 2012-19091 Filed 8-3-12; 8:45 am]

BILLING CODE 9110-21-P